DEPARTMENT OF THE INTERIOR

Office of the Secretary

[178D0102DM/DS64600000/DLSN00000.000000/DX.64601]

Notice of Senior Executive Service Performance Review Board Appointments

AGENCY: Office of the Secretary, Interior.

ACTION: Notice.

SUMMARY: This notice provides the names of individuals who have been appointed to serve as members of the Department of the Interior Senior Executive Service (SES) Performance Review Board.

DATES: These appointments are effective upon publication in the Federal Register.

FOR FURTHER INFORMATION CONTACT: Raymond Limon, Director, Office of Human Resources, Office of the Secretary, Department of the Interior, 1849 C Street NW., Washington, DC 20240, Telephone Number: (202) 208-5310.

SUPPLEMENTARY INFORMATION: The members of the Department of the Interior SES Performance Review Board are as follows:

ALLEN, MATTHEW R.

ANDREW, JONATHAN M.

ANDROFF, BLAKE J.

APPLEGATE, JAMES D. R.

ARAGON, JOSE RAMON

ARROYO, BRYAN

AUSTIN, STANLEY J.

AUSTIN, TERESA MADEYA

BAIL, KRISTIN MARA

BARON, JILL S.

BATHRICK, MARK L.

BEALL, JAMES W.

BEAN, MICHAEL J.

BEARPAW, GEORGE WATIE

BEAUDREAU, TOMMY P.

BECK, RICHARD T.

BECKER, BRIAN D.

BELIN, ALLETTA D.

BELNAP, JAYNE

BENGE, SHAWN T.

BERRIGAN, MICHAEL J.

BERRY, DAVID A.

BETANCOURT, JULIO L.

BLACK, MICHAEL S.

BLAIR, JOHN WATSON

BLANCHARD, MARY JOSIE

BLASER, THOMAS A.

BLEDSOE DOWNES, ANN MARIE

BOHLKE, JOHN KARL F. P.

BOLTON, HANNIBAL

BOWKER, BRYAN L.

BRANUM, LISA A.

BROWN, LAURA B.

BROWN, WILLIAM Y.

BRZEZINSKI, MARK F.

BUCKNER, SHAWN M.

BUFFA, NICOLE NMN

BURCH, MELVIN E.

BURCKMAN, JAMES N.

BURDEN, JOHN W.

BURKETT, VIRGINIA

BURNS, SYLVIA W.

CALDWELL, MICHAEL A.

CARDINALE, RICHARD T.

CARL, LEON M.

CARTER-PFISTERER, CAROLE

CASH, CASSIUS M.

CELATA, MICHAEL A.

CHAVARRIA, GABRIELA DEL C.

CHOUET, BERNARD A.

CHRISTOPHER, TERESA R.

CLARK, HORACE G.

CLEMENT, JOEL P.

CLINE, DONALD WALTER

CLOERN, JAMES E.

CLUCK, RODNEY E.

COLLETT, TIMOTHY S.

COMPTON, JEFFREY S.

CONNELL, JAMIE E.

COPLEN, TYLER B. II

CORDOVA-HARRISON, ELIZABE

CRAFF, ROBERT C.

CRIBLEY, BUD C.

CRONIN, THOMAS M.

CRUICKSHANK, WALTER D.

CRUZAN, DARREN A.

CUMMINGS, JODY ALLEN

CUNNINGHAM, WILLIAM L.

DABOLT, THOMAS O.

DALTON, KENNETH A.

DARNELL, JOSEPH D.

DAVIS, KIMBRA G.

DAVIS, MARK H.

DAVIS, ROSE MARIE

DEANGELIS, DONALD L.

DEARMAN, TONY L.

DEERINWATER, DANIEL J.

DELOATCH, IVAN B.

DETTINGER, MICHAEL

DEVARIS, AIMEE MARIE

DOHNER, CYNTHIA

DOUGLAS, JAMES C.

DOWNS, BRUCE M.

DUMONTIER, DEBRA L.

DUNTON, RONALD L.

DUTSCHKE, AMY L.

EDSALL, DONNA LYNN

ELLIS, STEVEN A.

ENOMOTO, STANTON KEONE

ESTENOZ, SHANNON A.

ETHRIDGE, MAX M.

FAETH, LORRAINE V.

FERRERO, RICHARD C.

FERRITER, OLIVIA B.

FIELD, EDWARD H.

FLANAGAN, DENISE A.

FORD, JEROME E.

FOSTER, MAUREEN D.

FRANKEL, ARTHUR D.

FRAZER, GARY D.

FREEMAN, SHAREE M.

FREIHAGE, JASON E.

FROST, HERBERT C.

FULP, TERRANCE J.

GALLAGHER, KEVIN T.

GIDNER, JEROLD L.

GLENN, DOUGLAS A.

GLOMB, STEPHEN J.

GOKLANY, INDUR M.

GOLDHABER, MARTIN B.

GONZALES-SCHREINER, ROSEA

GONZALEZ, MARIA E.

GOULD, GREGORY J.

GRACE, JAMES B.

GUERTIN, STEPHEN D.

HAIG, SUSAN M.

HALL, ROBERT E.

HAMLEY, JEFFREY L.

HANKS, THOMAS C.

HANNA, JEANETTE D.

HART, PAULA L.

HARTLEY, DEBORAH J.

HARVEY, RONALD W.

HAUGRUD, KEVIN JACK

HAVELY, ANDREW W.

HAWBECKER, KAREN S.

HEIN, JAMES R.

HERBST, LARS T.

HILDEBRANDT, BETSY J.

HILDRETH, EDWARD W.

HITZMAN, MURRAY WALTER

HOLLEY, AMY LIN

HOLMES, TROY EDWARD

HOPPER, ABIGAIL ROSS

HOSKINS, DAVID WILLIAM

HOUSEKNECHT, DAVID W.

HUMBERT, HARRY L.

HUNTER, TERESA R.

HYUN, KAREN H.

INGEBRITSEN, STEVEN E.

ISEMAN, THOMAS M.

IVERSON, RICHARD M.

JACKSON, JAMES K.

JAMES, JAMES D. JR.

JONES, EILEEN GAY

JOSEPHSON, CLEMENTINE

JOSS, LAURA

JUPP, WILLIAM B.

KALAVRITINOS, CHRISTINA S

KEABLE, EDWARD T.

KEELEY, JON E.

KELLY, FRANCIS P.

KELLY, KATHERINE P.

KENDALL, JAMES J. JR.

KINSINGER, ANNE E.

KLEIN, ELIZABETH A.

KRABBENHOFT, DAVID P.

KROPF, RAMSEY LAURSOO

KRUSE, MICHAEL

KRYC, KELLY A.

KURTH, JAMES W.

LA COUNTE, DARRYL D. II

LABSON, VICTOR F.

LAFFERTY, KEVIN D.

LAIRD, JOSHUA RADBILL

LAKE, TIMOTHY CHARLES

LANCE, LINDA L.

LAPOINTE, TIMOTHY L.

LAROCHE, DARRELL WILLIAM

LAURO, SALVATORE R.

LEE, LORRI J.

LEHNERTZ, CHRISTINE S.

LEITER, AMANDA C.

LEITH, WILLIAM S.

LILLIE, JULIETTE ANNE FAL

LIMON, RAYMOND A.

LIN, JANET H.

LOCKNER, DAVID A.

LODGE, CYNTHIA LOUISE

LOFTIN, MELINDA J.

LOHOEFENER, RENNE R.

LORDS, DOUGLAS A.

LOUDERMILK, WELDON B.

LOVELAND, THOMAS R.

LUEBKE, THOMAS A.

LUEDERS, AMY L.

LYNN, TIM K.

LYONS, JAMES R.

MABRY, SCOTT L.

MARTIN, THOMAS E.

MARTINEZ, CYNTHIA T.

MASICA, SUE E.

MASON, ROBERT R JR.

MAYTUBBY, BRUCE W.

MCCABE, GREGORY J. JR

MCCAFFERY, JAMES G.

MCCLANAHAN, JOHN H.

MCCORMICK, STEPHEN D.

MCDOWALL, LENA E.

MCGUIRE, ANTHONY D.

MCKEOWN, MATTHEW J.

MECH, L. DAVID

MEHLHOFF, JOHN J.

MELIUS, THOMAS O.

MILAKOFSKY, BENJAMIN E.

MILLY, PAUL C. D.

MONACO, JENNIFER ROMERO

MORRIS, DOUGLAS W.

MOSS, ADRIANNE L.

MOURITSEN, KAREN E.

MUHS, DANIEL R.

MULLER, BRUCE C. JR

MURILLO, DAVID G.

MURPHY, TIMOTHY M.

MUSSENDEN, PAUL A.

MYERS, DONNA N.

NASSAR, JOSEPH W.

NEDD, MICHAEL D.

NEIMEYER, SARAH C.

NOBLE, MICHAELA E.

NORDSTROM, DARRELL K.

OBERNESSER, RICHARD

OLSEN, MEGAN C.

ONEILL, KEITH JAMES

OREMLAND, RONALD S.

ORGAN, JOHN FRANCIS

ORR, L. RENEE

ORTIZ, HANKIE P.

OWENS, GLENDA HUDSON

PALUMBO, DAVID M.

PARSONS, THOMAS E.

PATINO, REYNALDO

PAYNE, GRAYFORD F.

PEREZ, JEROME E.

PETERSON, PENNY LYNN

PFEIFFER, TAMARAH NMN

PIDOT, JUSTIN ROBERT

PIERRE-LOUIS, ALESIA J.

PINTO, SHARON ANN

PLETCHER, MARY F.

PLUMLEE, GEOFFREY S.

PULA, NIKOLAO IULI

QUINLAN, MARTIN J.

QUINN, TIMOTHY S.

RAE, KAREN L.

RAFF, DAVID A.

RAMOS, PEDRO M.

RAUCH, PAUL A.

REYNOLDS, MICHAEL T.

REYNOLDS, THOMAS G.

RHEES, BRENT B.

RICE, BRYAN C.

RICHARDSON, KAREN K.

RICHARDSON, LIZETTE

RIDEOUT, STERLING J. JR

RIECHEL, SILVIA MARIA

RIGGS, HELEN

ROBERSON, EDWIN L.

ROBERTS, JAMES F.

ROBERTS, LAWRENCE SCOTT

ROMANIK, PEG A.

ROSS, JOHN W.

ROTH, BARRY N.

ROYLE, JEFFREY A.

RUFFIN, LAWRENCE K.

RUGWELL, MARY J.

RUHS, JOHN F.

RYAN, DENISE E.

RYAN, MICHAEL J.

SALERNO, BRIAN M.

SALOTTI, CHRISTOPHER P.

SANFORD, WARD E.

SANTOSA, DAUD

SAUER, JOHN R.

SAUVAJOT, RAYMOND MARC

SAXE, KEITH E.

SCHNEIDER, MARGARET N.

SCHOCK, JAMES H.

SCHRECK, CARL B.

SEAL, ROBERT R. II

SHAPIRO, ALLEN M.

SHEEHAN, DENISE E.

SHEPARD, ERIC N.

SHOLLY, CAMERON H.

SHOPE, THOMAS D.

SIEKANIEC, GREGORY EUGENE

SIMMONS, SHAYLA F.

SIMS, DAVID M.

SINGER, MICHELE F.

SLACK, JAMES J.

SMILEY, KARLA J.

SMITH, MARC ALAN

SMITH, MICHAEL R.

SOGGE, MARK K.

SONDERMAN, DEBRA E.

SOSIN, AMY B.

SOUZA, PAUL

SPEAKS, STANLEY M.

STEIGER, JOHN W.

STEWARD, JAMES D.

STREATER, EDDIE R.

SUAZO, RAYMOND

TAYLOR, KENNETH S.

TEITZ, ALEXANDRA ELIZABET

TEN BRINK, URI

THOMPSON, DIONNE E.

THORSON, ROBYN

TILLITT, DONALD E.

TISCHLER, MICHAEL ALLAN

TODD, RAYMOND K.

TOOTHMAN, STEPHANIE S.

TOUTON, MARIACAMILLE CALI

TUGGLE, BENJAMIN N.

TUPPER, MICHAEL H.

TYLER, PAUL GRAHAM

USERY, EDDY L.

VELA, RAYMOND DAVID

VELASCO, JANINE M.

VIETZKE, GAY E.

VOGEL, ROBERT A.

WAINMAN, BARBARA W.

WALD, DAVID J.

WALKER, WILLIAM T.

WALSH, NOREEN E.

WASHBURN, JULIA L.

WAYSON, THOMAS C.

WEBER, WENDI

WELCH, RUTH L.

WENGER, LANCE C.

WENK, DANIEL N.

WERKHEISER, WILLIAM H.

WEYERS, HOLLY S.

WHITE, JOHN ETHAN

WILLIAMS, LC

WILLIAMS, MARGARET C.

WINTON, JAMES R.

WOLF, ROBERT W.

WOODY, WILLIAM C.

WORONKA, THEODORE

Authority: 5 CFR 430.311(a)(4).

Raymond Limon,
Director, Office of Human Resources.

[FR Doc. 2016-28315 Filed 11-23-16; 8:45 am]

BILLING CODE 4334-12-P